DEPARTMENT OF HEALTH AND HUMAN SERVICES

Food and Drug Administration

[Docket Nos. FDA-2013-N-0879; FDA-2013-N-0579; FDA-2016-N-2474; FDA-2016-D-1853; FDA-2013-N-0764; FDA-2013-N-0825; FDA-2013-N-0797; FDA-2013-N-0578]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 11601 Landsdown Street, North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the Internet at https://www.reginfo.gov/public/do/PRAMain. An Agency may not conduct or sponsor, and a person is not required to respond to, a collection of information unless it displays a currently valid OMB control number.

Table 1—List of Information Collections Approved by OMB
Title of collection | OMB control No. | Date approval expires
Procedures for the Safe Processing and Importing of Fish and Fishery Products | 0910-0354 | 2/29/2020
Biological Products: Reporting of Biological Product Deviations and Human Cells, Tissues, and Cellular and Tissue-Based Product Deviations; Form FDA 3486 and Addendum, 3486A | 0910-0458 | 2/29/2020
Designation of New Animal Drugs for Minor Use or Minor Species | 0910-0605 | 2/29/2020
Unique Device Identification System | 0910-0720 | 2/29/2020
Animal Feed Regulatory Program Standards | 0910-0760 | 2/29/2020
Premarket Approval of Medical Devices—21 CFR Part 814 | 0910-0231 | 3/31/2020
Human Tissue Intended for Transplantation | 0910-0302 | 3/31/2020
General Licensing Provisions: Biological License Application, Changes to an Approved Application, Labeling, Revocation and Suspension, and Form FDA 356h | 0910-0338 | 3/31/2020

Dated: May 18, 2017.
Anna K. Abram,
Deputy Commissioner for Policy, Planning, Legislative, and Analysis.

[FR Doc. 2017-10736 Filed 5-24-17; 8:45 am]

BILLING CODE 4164-01-P